DEPARTMENT OF LABOR

Employment and Training Administration

[TA-W-56,114]

Bourns Microelectronics Modules, Inc., a Subsidiary of Bourns, Inc., New Berlin, WI; Amended Notice of Revised Determination on Remand

In accordance with Section 223 of the Trade Act of 1974 (19 U.S.C. 2273) the Department of Labor issued a Notice of Revised Determination On Remand on August 16, 2005, applicable to workers of Bourns Microelectronics Modules, Inc., a subsidiary of Bourns, Inc., New Berlin, Wisconsin. The notice was published in the Federal Register on August 26, 2005 (70 FR 50409-50410).

At the request of the State agency, the Department reviewed the certification for workers of the subject firm. The workers were engaged in the production of computer modules.

The purpose of this amendment is to clarify that individuals who received any benefits under trade adjustment assistance case number TA-W-42,217 may not receive any benefits under trade adjustment assistance case number TA-W-56,114 for the same separation from employment.

The amended certification applicable to TA-W-56,114 is hereby issued as follows:

All workers of Bourns Microelectronics Modules, Inc., a subsidiary of Bourns, Inc., New Berlin, Wisconsin, who became totally or partially separated from employment on or after December 3, 2003 through August 16, 2007, are eligible under Section 223 to apply for adjustment assistance of the Trade Act of 1974, and are also eligible to apply for alternative trade adjustment assistance under Section 246 of the Trade Act of 1974, except that individuals who received any benefits under trade adjustment assistance case number TA-W-42,217 may not receive any benefits under trade adjustment assistance case number TA-W-56,114 for the same separation from employment.

Signed at Washington, DC this 14th day of September 2005.
Elliott S. Kushner,
Certifying Officer, Division of Trade Adjustment Assistance.

[FR Doc. E5-5476 Filed 10-5-05; 8:45 am]

BILLING CODE 4510-30-P